DEPARTMENT OF THE TREASURY

Office of the Comptroller of the Currency

[OCC Charter Number 704476]

Edgewater Bank, St. Joseph, Michigan; Approval of Conversion Application

Notice is hereby given that on November 12, 2013, the Office of the Comptroller of the Currency (OCC) approved the application of Edgewater Bank, St. Joseph, Michigan, to convert to the stock form of organization. Copies of the application are available on the OCC Web site at the FOIA Reading Room (https://foia-pal.occ.gov/palMain.aspx) under Mutual to Stock Conversion Applications. If you have any questions, please contact Licensing Activities at (202) 649-6260.

Dated: January 28, 2014.
By the Office of the Comptroller of the Currency.
Stephen A. Lybarger,
Deputy Comptroller for Licensing.

[FR Doc. 2014-02445 Filed 2-5-14; 8:45 am]

BILLING CODE 4810-33-P